SECURITIES AND EXCHANGE COMMISSION

[Release No. IC-24268]

Notice of Applications for Deregistration Under Section 8(f) of the Investment Company Act of 1940

January 28, 2000.

The following is a notice of applications for deregistration under section 8(f) of the Investment Company Act of 1940 for the month of January, 2000. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on February 22, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information, Contact: Diane L. Titus, at (202) 942-0564, SEC, Division of Investment Management, Office of Investment Company Regulation, 450 Fifth Street, NW, Washington, DC 20549-0506.

Sefton Funds Trust [File No. 811-8948]

Summary: Applicant seeks an order declaring that it has ceased to be an investment company. On November 22, 1999, applicant transferred its assets to Kayne Anderson Mutual Funds based on net asset value. Expenses of $119,500 incurred in connection with the reorganization were paid by Kayne Anderson Investment Management, LLC, Investment adviser to the acquiring fund.

Filing Dates: The application was filed on January 3, 2000, and amended on January 20, 2000.

Applicants Address: 2550 Fifth Avenue, Suite 808, San Diego, California 92103.

State Street Research Portfolios, Inc. [File No. 811-6375]

Summary: Applicant seeks an order declaring that it has ceased to be an investment company. On October 1, 1999, applicant transferred its assets to State Street Research International Equity Fund, a series of State Street Research Financial Trust, based on net asset value. Expenses of $67,250 incurred in connection with the reorganization were paid by applicant.

Filing Date: The application was filed on January 7, 2000.

Applicant's Address: One Financial Center, Boston, Massachusetts 02111.

The Universal Funds [File No. 811-9627]

Summary: Applicant seeks an order declaring that it has ceased to be an investment company. Applicant has not made public offering of its securities and does not propose to make any public offering or engage in business of any kind.

Filing Date: The application was filed on January 6, 2000.

Applicant's Address: Via Mizner Financial Plaza, 700 South Federal Highway—Suite 300, Boca Raton, Florida 33432.

AIM Eastern Europe Fund [File No. 811-5978]

Summary: Applicant seeks an order declaring that it has ceased to be an investment company. On September 10, 1999, applicant transferred its assets to AIM Developing Markets Fund, a series of AIM Investment Funds, based on net asset value. Expenses of $125,730 incurred in connection with the reorganization were paid by AIM Advisors, Inc., applicant's investment adviser.

Filing Date: The application was filed on December 29, 1999.

Applicant's Address: 11 Greenway Plaza, Suite 100, Houston, Texas 77046-1173.

Cadre Network Health Financial Services Trust [File No. 811-6567]

Summary: Applicant seeks an order declaring that it has ceased to be an investment company. By May 1, 1999, all shareholders of applicant had redeemed their shares at net asset value. Expenses of $3,888 incurred in connection with the liquidation will be paid by applicant.

Filing Dates: The application was filed on November 24, 1999, and amended on December 22, 1999.

Applicant's Address: 905 Marconi Avenue, Ronkonkoma, New York 11779.

Latin America Smaller Companies Fund, Inc. [File No. 811-7197]

Summary: Applicant seeks an order declaring that it has ceased to be an investment company. On August 24, 1999, applicant made a final liquidating distribution to its shareholders based on net asset value. Expenses of $111,388 incurred in connection with the liquidation were paid by applicant.

Filing Dates: The application was filed on November 23, 1999, and amended on January 7, 2000.

Applicant's Address: 101 Federal Street, 6th Floor, Boston, Massachusetts 02110.

Merrill Lynch Technology Fund, Inc. [File No. 811-6407]

Summary: Applicant seeks an order declaring that it has ceased to be an investment company. On September 20, 1999, applicant transferred its assets to Merrill Lynch Global Technology Fund, Inc. based on net asset value. Expenses of $299,965 incurred in connection with the reorganization were paid by the surviving fund.

Filing Dates: The application was filed on December 22, 1999, and amended on January 19, 2000.

Applicant's Address: 800 Scudders Mill Road, Plainsboro, New Jersey 08536.

Trust for Return and Income [File No. 811-6617]

Summary: Applicant seeks an order declaring that it has ceased to be an investment company. Applicant has never made a public offering of its securities and does not propose to make a public offering on engage in business of any kind.

Filing Dates: The application was filed on December 6, 1999, and amended on January 10, 2000.

Applicant's Address: 125 Broad Street, New York, New York 10004-2708.

American Equity Life Variable Account [File No. 811-8643]

Summary: Applicant seeks an order declaring that it has ceased to be an investment company. Applicant has not made any public offering of its securities, is not now engaged, or intending to engage, in any business activities other than those necessary for winding up its affairs.

Filing Date: The application was filed on December 17, 1999.

Applicant's Address: 5000 Westown Parkway, Suite 440, West Des Moines, Iowa 50266.

Farm Bureau Life Annuity Account III [File No. 811-8975]

Summary: Applicant seeks an order declaring that it has ceased to be an investment company. Applicant has not made any public offering of its securities, is not now engaged, or intending to engage, in any business activities other than those necessary for winding up its affairs.

Filing Date: The application was filed on December 20, 1999.

Applicant's Address: 5400 University Avenue, West Des Moines, Iowa 50266.

General American Life Insurance Company Separate Account Two [File No. 811-9387]

Summary: Applicant seeks an order declaring that it has ceased to be an investment company. Applicant has not made any public offering of its securities, is not now engaged, or intending to engage, in any business activities other than those necessary for winding up its affairs.

Filing Date: The application was filed on July 26, 1999.

Applicant's Address: 700 Market Street, St. Louis, Missouri 63101.

PFL Wright Variable Annuity Account [File No. 811-7688]

Summary: Applicant seeks an order declaring that it has ceased to be an investment company. There are no remaining policyholders.

Filing Date: The application was filed on September 2, 1999.

Applicant's Address: 4333 Edgewood Road, N.E., Cedar Rapids, IA 52499-0001.

Alexander Hamilton Variable Insurance Trust [File No. 811-8682]

Summary: Applicant seeks an order declaring that it has ceased to be an investment company. On December 5, 1997 and December 12, 1997, applicant made liquidating distributions to its shareholders based on net asset value per share. Applicant incurred $16,995 in legal expenses regarding an order of substitution granted by the SEC that is connected to the liquidation.

Filing Date: The application was filed on September 13, 1999.

Applicant's Address: 100 North Greene Street, Greensboro, NC 27401.

Astra Strategic Investment Series [File No. 811-0038], Astra Global Investment Series [File No. 811-4468], Astra Institutional Securities Trust [File No. 811-6408] and Astra Institutional Trust [File No. 811-6518]

Summary: Each applicant seeks an order declaring that it has ceased to be an investment company. By December 29, 1997, each applicant had made a final liquidating distribution to its shareholders based on net asset value. Shareholder Communications Corporation, a professional pre-escheat service provider, has been retained to search for shareholders whose whereabouts could not be ascertained. Astra Strategic Investment Series paid approximately $90,271 in expenses in connection with its liquidation. Each of the remaining applicants paid approximately $23,798 in expenses in connection with their liquidations.

Filing Dates: Each application was filed on January 3, 2000, and amended on January 21, 2000.

Applicant's Address: c/o PFPC, Inc., 103 Bellevue Parkway, Wilmington, Delaware 19809.

American Skandia Life Assurance Corporation Variable Account C [File No. 811-5676]

Summary: Applicant seeks an order declaring that it has ceased to be an investment company. Applicant has not made any public offering of its securities and does not propose to make any public offering or engage in business of any kind.

Filing Dates: The application was filed on January 4, 2000 and amended on January 18, 2000.

Applicant's Address: One Corporate Drive, Shelton, CT 06484.

For the Commission, by the Division of Investment Management, pursuant to delegated authority.
Margaret H. McFarland,
Deputy Secretary.

[FR Doc. 00-02448 Filed 2-3-00; 8:45 am]

BILLING CODE 8010-01-M